DEPARTMENT OF ENERGY

[OE Docket No: PP-371]

Amended Application for Presidential Permit; Northern Pass Transmission LLC

AGENCY: Office of Electricity Delivery and Energy Reliability, DOE.

ACTION: Notice of Amended Application.

SUMMARY: Northern Pass Transmission LLC (Northern Pass) has submitted an amended application for a Presidential permit to construct, operate, maintain, and connect an electric transmission line across the United States border with Canada.

DATES: Comments or requests to intervene should be submitted on or before September 18, 2013.

ADDRESSES: Comments or requests to intervene should be addressed as follows: Christopher Lawrence, Office of Electricity Delivery and Energy Reliability (OE-20), U.S. Department of Energy, 1000 Independence Avenue SW., Washington, DC 20585.

FOR FURTHER INFORMATION CONTACT: Christopher Lawrence (Program Office) at 202-586-5260 or via electronic mail at Christopher.Lawrence@hq.doe.gov, or Katherine L. Konieczny (Attorney-Adviser) at 202-586-0503 or via electronic mail at Katherine.Konieczny@hq.doe.gov.

SUPPLEMENTARY INFORMATION: The construction, operation, maintenance, and connection of facilities crossing the international border of the United States for the transmission of electric energy between the United States and a foreign country is prohibited in the absence of a Presidential permit issued pursuant to Executive Order (EO) 10485, as amended by EO 12038.

On October 14, 2010, Northern Pass filed an application with the Office of Electricity Delivery and Energy Reliability of the Department of Energy (DOE) for a Presidential permit. Northern Pass, which has its principal place of business in Manchester, NH, is a special purpose entity created for the purpose of this proposed project. Northern Pass is wholly owned by NU Transmission Ventures, Inc., a wholly-owned subsidiary of Northeast Utilities, a publicly-held public utility holding company.

On November 16, 2010, DOE published a Notice of Application in the Federal Register. On February 15, 2011, Northern Pass submitted an Addendum to Application that updated and supplemented its Presidential permit application.

On April 12, 2011, Northern Pass sent a letter to DOE “withdraw[ing] its support for certain alternatives,” and “request[ing] a 60-day extension of the [NEPA] scoping period to allow Northern Pass time to explore whether there might be additional routing alternatives, particularly in the North Country, that would meet the needs of the Project.”

On July 1, 2013, Northern Pass submitted an amended application that is meant to replace the application that Northern Pass originally submitted on October 14, 2010, and supplemented on February 15, 2011, and April 12, 2011. In the amended application, Northern Pass proposes to construct and operate a primarily overhead high-voltage direct current (HVDC) electric transmission line that would originate at an HVDC converter station to be constructed at the Des Cantons Substation in Québec, Canada, then would be converted from HVDC to alternating current (AC) in Franklin, NH, and would continue to its southern terminus in Deerfield, NH (collectively the “Project”). The proposed facilities would be capable of transmitting up to 1200 megawatts (MW) of power.

The New Hampshire portion of the proposed Project would be a single circuit 300 kilovolt (kV) HVDC transmission line of approximately 153 miles from the U.S. border crossing with Canada near the community of Pittsburg, NH, to a new HVDC-to-AC transformer facility to be constructed in Franklin, NH. From Franklin, NH, to the Project terminus at the Public Service Company of New Hampshire's existing Deerfield Substation located in Deerfield, NH, the Project would consist of 34 miles of 345-kV AC electric transmission line. The total Project length would be approximately 187 miles.

The amended proposed route for the Project remains largely unchanged from the application submitted on October 14, 2010, for the Central and Southern sections, but has been substantially reconfigured for the Northern section. The amended proposed route continues to maximize the use of the existing right-of-way (ROW) in all sections.

The majority of the Northern section of the amended proposed route has been moved to a less populated area on properties that Renewable Properties Inc., an affiliate of Northern Pass, has purchased, leased, or obtained an easement on from landowners. The amended proposed route includes the use of additional existing ROW in the towns of Dummer, Stark, and Northumberland, NH. It also includes two underground segments: 2,300 feet and 7.5 miles in the towns of Pittsburg/Clarksville and Clarksville/Stewartstown, NH, respectively.

In the Southern section, Northern Pass previously indicated that a deviation from the existing ROW would be necessary if the Federal Aviation Administration (FAA) requirements could not be met to locate the proposed transmission line in the existing ROW around Concord Airport. Since filing the original application, Northern Pass has determined that the Project can meet the necessary requirements and the amended proposed route reflects that the proposed transmission line would follow the existing ROW near the Concord Airport.

The amended application also notes key developments since the Project's original application filing, including information about the potential environmental, historical, and cultural impacts of the proposed Project, information about the transmission structure locations and heights along the entire proposed route, and discussion of certain alternatives suggested through public comment.

Procedural Matters: Any person may comment on this application by filing such comment at the address provided above. Comments requested in this Notice of Amended Application, such as those related to reliability matters, should not be confused with scoping comments that continue to be solicited through a separate process pursuant to the National Environmental Policy Act of 1969 (NEPA) regulations. Scoping comments may be submitted at http://www.northernpasseis.us/comment/. Any person seeking to become a party to this proceeding should file a request to intervene at the address provided above in accordance with Rule 214 of FERC's Rules of Practice and Procedure (18 CFR 385.214). Additional copies of such requests to intervene should also be filed directly with:

Anne Bartosewicz, Northeast Utilities, 107 Selden Street, Berlin, CT 06037.

Mary Anne Sullivan, Hogan Lovells, LLP, 555 13th St. NW., Washington, DC 20004.

Persons who filed a request to intervene following notice of the original application (October 14, 2010) will continue to be considered parties to this proceeding and need not reapply.

Before a Presidential permit may be issued, DOE must determine whether issuance of the permit would be consistent with the public interest. In making that determination, DOE considers the potential environmental impacts of the proposed project pursuant to NEPA, determines the project's impact on electric reliability by ascertaining whether the proposed project would adversely affect the operation of the U.S. electric power supply system under normal and contingency conditions, and considers any other factors that may also be relevant to the public interest. DOE must also obtain the favorable recommendations of the Secretary of State and the Secretary of Defense before issuing a Presidential permit. Copies of the amended application will be made available, upon request, for public inspection by accessing the program Web site at http://energy.gov/oe/services/electricity-policy-coordination-and-implementation/international-electricity-regulatio-2 or by emailing Angela Troy at angela.troy@hq.doe.gov.

Issued in Washington, DC, on August 12, 2013.
Patricia Hoffman,
Assistant Secretary, Office of Electricity Delivery and Energy Reliability.

[FR Doc. 2013-20129 Filed 8-16-13; 8:45 am]

BILLING CODE 6450-01-P